DEPARTMENT OF TRANSPORTATION

Coast Guard

33 CFR Part 166

[CGD08-00-012]

RIN 2115-AA98

Anchorage Regulation; Sabine Pass, TX, Gulf of Mexico

AGENCY: Coast Guard, DOT.

ACTION: Notice of proposed rulemaking.

SUMMARY: The Coast Guard proposes to create a new anchorage area on the eastern side of the Sabine Pass Safety Fairway, opposite the Sabine Bank Offshore (North) Anchorage area in the Gulf of Mexico south of Sabine Pass. This will help alleviate the need for in-bound deep draft vessels to cross the Sabine Pass Safety Fairway and navigate around a charted shallow area just to the southeast of the North anchorage. This proposal will allow deep draft vessels to enter and depart Sabine Bank anchorages on a safer, lower risk course.

DATES: Comments and related material must reach the Coast Guard on or before August 21, 2000.

ADDRESSES: You may mail comments and related material to Commanding Officer, U.S. Coast Guard Marine Safety Office, Federal Building, 2875 Jimmy Johnson Blvd., Port Arthur, Texas 77640-2099, or you may deliver comments at the same address between 8 a.m. and 4 p.m., Monday through Friday, except Federal holidays. The telephone number is (409) 723-6501. The Captain of the Port maintains the public docket for this rulemaking. Comments and material received from the public, as well as documents indicated in this preamble as being available in the docket, will become part of this docket and will be available for inspection or copying at the same address, dates and times.

FOR FURTHER INFORMATION CONTACT: Chief Warrant Officer Matthew Marlow, Waterways Management, Coast Guard Marine Safety Office Port Arthur, telephone (409) 723-6509, extension 239.

SUPPLEMENTARY INFORMATION:

Request for Comments

We encourage you to participate in this rulemaking by submitting comments and related material. If you do so, please include your name and address, identify the docket number for this rulemaking (CGD08-00-012), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Commanding Officer U.S. Coast Guard Marine Safety Office at the address under ADDRESSES explaining why one would be beneficial. If we determine that one would aid this rulemaking, we will hold one at a time and place announced by a later notice in the Federal Register.

Background and Purpose

In 1997, the in-bound tank vessel CROSBY ran aground just outside the Sabine Bank Offshore (North) Anchorage area located in the Gulf of Mexico, approximately 13 miles south of Sabine Pass, TX. This vessel was carrying over 650,000 barrels of crude oil. Although no oil was spilled, the result could have been disastrous. The subsequent investigation revealed that the vessel's master crossed the safety fairway and was attempting to navigate into the North anchorage. However, a strong westerly current began pushing the CROSBY toward the shallow area southeast of the anchorage area. The master was unable to maneuver away from the shallows and the vessel grounded. Four tugboats took 15 hours to refloat the CROSBY.

The proposed new anchorage east of the Sabine Bank Offshore (North) Anchorage is necessary to reduce the risk of a grounding. The proposed location for a new anchorage is free of shallow areas immediately surrounding it. In-bound petroleum laden deep draft vessels invariably have need to anchor and wait for daylight transit. If an anchorage is created on the eastern side of the Sabine Pass Safety Fairway, deep draft vessels will not need to cross the safety fairway to anchor, and will avoid passing close to the shallow area southeast of the North anchorage. This significantly reduces navigational risks to deep draft shipping.

Discussion of Proposed Rule

The regulation creates a new anchorage in an area bounded by rhumb lines joining points at:

Latitude | Longitude
29°26′06″ N | 93°38′52″ W.
29°26′06″ N | 93°37′00″ W.
29°24′06″ N | 93°37′00″ W.
29°24′06″ N | 93°38′52″ W.

With this proposal, the new Sabine Bank Offshore (East) Anchorage will include deeper waters surrounding the anchorage boundaries, while maintaining an effective area of safety for deep draft vessels. This proposed regulation is designed to reduce risk of deep draft vessel groundings and promote safety of maritime commerce in the Port Arthur Captain of the Port Zone.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

There are no fees, permits, or specialized requirements for the maritime industry to utilize this anchorage area. The regulation is solely for the purpose of advancing safety of maritime commerce.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule should have minimal economic impact on vessels operated by small entities. There are no restrictions for entry or use of the proposed anchorage targeting small entities. Fairway anchorage regulations found in 33 CFR 166.200 apply equally to large and small entities. The proposed regulation creates only a new anchorage area, it does not govern its usage. The proposed location is no farther offshore or closer to shore than the existing North anchorage.

If you think that your business, organization, or governmental jurisdiction qualifies as a small entity and that this rule would have a significant economic impact on it, please submit a comment (see ADDRESSES) explaining why you think it qualifies and how and to what degree this rule would economically affect it.

Assistance for Small Entities

This proposed rule is not foreseen to affect small entities.

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the entity listed in ADDRESSES.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph 34, of COMDTINST M16475.lC, this proposed rule is categorically excluded from further environmental documentation. A Categorical Exclusion Determination will be prepared in accordance with paragraph 2.B.2, Figure 2-1, CE#34(f) of COMDTINST M16475.1C. This rule proposes creating a new anchorage area to the east of the Sabine Bank Offshore (North) Anchorage area. This new anchorage would enhance the safety in the waters offshore of Port Arthur, Texas by allowing additional space and a safer approach for deep draft vessels to anchor.

List of Subjects in 33 CFR Part 166

Anchorage grounds, Marine Safety, Navigation (water), Waterways.

For the reasons discussed in the preamble, the Coast Guard proposes to amend 33 CFR part 166 as follows:

PART 166—SHIPPING SAFETY

1. The authority citation for part 166 continues to read as follows:

Authority: 33 U.S.C. 1223; 49 CFR 1.46.

2. In § 166.200, paragraph (d)(13)(iv) is added to read as follows:

§ 166.200 Shipping safety fairways and anchorage areas, Gulf of Mexico.

* * * * *

(d) * * *

(13) * * *

(iv) Sabine Bank Offshore (East) Anchorage Area. The area enclosed by rhumb lines joining points at:

Latitude | Longitude
29°26′06″ N. | 93°38′52″ W.
29°26′06″ N. | 93°37′00″ W.
29°24′06″ N. | 93°37′00″ W.
29°24′06″ N. | 93°38′52″ W.

Dated: May 31, 2000.
Paul J. Pluta,
Commander, Eighth Coast Guard District.

[FR Doc. 00-15514 Filed 6-20-00; 8:45 am]

BILLING CODE 4910-15-P